DEPARTMENT OF LABOR

Employment and Training Administration

[TA-W-65,653]

Munson Machinery Company, Utica, NY; Notice of Revised Determination on Reconsideration of Alternative Trade Adjustment Assistance

By letter dated June 2, 2009, a petitioner requested administrative reconsideration regarding Alternative Trade Adjustment Assistance (ATAA) applicable to workers of the subject firm. The negative determination was signed on May 14, 2009. The notice of negative determination for ATAA will soon be published in the Federal Register.

The workers of Munson Machinery Company, Utica, New York were certified eligible to apply for Trade Adjustment Assistance (TAA) on May 14, 2009.

The initial ATAA investigation determined that workers of the workers' firm possess skills that are easily transferrable.

In the request for reconsideration, the petitioner provided additional information regarding the skills of the workers and that the skills of the workers employed at the subject firm are not easily transferrable to other businesses within the local commuting area. The company official provided sufficient information confirming this statement.

Additional investigation has determined that the workers possess skills that are not easily transferable and that the conditions within the industry are adverse. A significant number or proportion of the worker group is age fifty years or over.

Conclusion

After careful review of the additional facts obtained on reconsideration, I conclude that the requirements of Section 246 of the Trade Act of 1974, as amended, have been met for workers at the subject firm.

In accordance with the provisions of the Act, I make the following revised determination:

All workers of Munson Machinery Company, Utica, New York, who became totally or partially separated from employment on or after March 11, 2008 through May 14, 2011, are eligible to apply for alternative trade adjustment assistance under Section 246 of the Trade Act of 1974.

Signed in Washington, DC this 16th day of June, 2009.
Elliott S. Kushner,
Certifying Officer, Division of Trade Adjustment Assistance.

[FR Doc. E9-14762 Filed 6-23-09; 8:45 am]

BILLING CODE 4510-FN-P